DEPARTMENT OF THE INTERIOR

Bureau of Land Management

[AK-962-1410-HY]

Notice for Publication; F-19155-4 Alaska Native Claims Selection

In accordance with Departmental regulation 43 CFR 2650.7(d), notice is hereby given that a decision to issue conveyance under the provisions of Sec. 14(e) of the Alaska Native Claims Settlement Act of December 18, 1971, 43 U.S.C. 1613(e), will be issued to Doyon, Limited. The lands involved are in the vicinity of Fort Yukon, Alaska.

Fairbanks Meridian, Alaska

T. 18 N., R. 14 E.,

Secs. 29 and 32, those lands formerly within Native allotment F-14713 Parcel B.

Containing approximately 40 acres.

A notice of the decision will be published once a week, for four (4) consecutive weeks, in the Fairbanks Daily News Miner. Copies of the decision may be obtained by contacting the Alaska State Office of the Bureau of Land Management, 222 West Seventh Avenue, #13, Anchorage, Alaska 99513-7599, (907) 271-5960.

Any party claiming a property interest which is adversely affected by the decision, an agency of the Federal government, or regional corporation, shall have until June 19, 2000 to file an appeal. However, parties receiving service by certified mail shall have 30 days from the date of receipt to file an appeal. Appeals must be filed in the Bureau of Land Management at the address identified above, where the requirements for filing an appeal may be obtained. Parties who do not file an appeal in accordance with the requirements of 43 CFR Part 4, Subpart E, shall be deemed to have waived their rights.

Stephanie Clusiau,
Land Law Examiner, Branch of ANCSA Adjudication.

[FR Doc. 00-12611 Filed 5-18-00; 8:45 am]

BILLING CODE 4310-$$-U